RAILROAD RETIREMENT BOARD

Proposed Collection; Comment Request

SUMMARY: In accordance with the requirement of Section 3506(c)(2)(A) of the Paperwork Reduction Act of 1995 which provides opportunity for public comment on new or revised data collections, the Railroad Retirement Board (RRB) will publish periodic summaries of proposed data collections.

Comments Are Invited On

(a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of Information Collection

Investigation of Claim for Possible Days of Employment.

Under Section 1(k) of the Railroad Unemployment Insurance Act (RUIA), unemployment and sickness benefits are not payable for any day with respect to which remuneration is payable or accrues to the claimant. Also Section 4(a-1) of the RUIA provides that unemployment or sickness benefits are not payable for any day the claimant receives the same benefits under any law other than the RUIA. Under Railroad Retirement Board (RRB) regulations, 20 CFR 322.4(a), a claimant's certification or statement on an RRB provided claim form that he or she did not work on any day claimed and did not receive income such as vacation pay or pay for time lost shall constitute sufficient evidence unless there is conflicting evidence. Further, under 20 CFR 322.4(b), when there is question raised as to whether or not remuneration is payable or has accrued to a claimant with respect to a claimed day or days, investigation shall be made with a view to obtaining information sufficient for a finding.

The RRB currently utilizes the following four forms, to obtain information from railroad employers, nonrailroad employers and claimants, that are needed to determine whether a claimed days or days of unemployment or sickness were improperly or fraudulently claimed: Form ID-51, Letter to Non-Railroad Employers on Employment and Earnings of a Claimant; Form ID-5R(SUP), Report of Employees Paid RUIA Benefits for Every Day in Month Reported as Month of Creditable Service; Form ID-49R, Letter to Railroad Employer for Payroll Information; and Form UI-48, Claimant's Statement Regarding Benefit Claim for Days of Employment. All of these forms are currently approved for use by the Office of Management and Budget (OMB 3220-0025).

The RRB proposes the use of a new Form ID-5S(SUP), Report of Cases for Which All Days Were Claimed During a Month Credited Per an Adjustment Report. Form ID-5S(SUP), Report of Case for Which All Days Were Claimed During a Month Credited Per an Adjustment Report, will be used to collect required information about compensation credited to an employee during a period when the employee claimed either unemployment or sickness benefits from a railroad employer. The request will be generated as a result of a computer match which compares data that is maintained in the RRB's RUIA Benefit Payment file with data maintained in the RRB's records of service and compensation. Similar to RRB Form ID-5R(SUP), which is generated annually after the RRB's service and compensation records are updated with RRB Form BA-3a (Employer Report of Service and Compensation, OMB approved 3220-0008) information, the ID-5S(SUP) will be generated annually when the computer match indicates that an employee(s) of the railroad employer was paid unemployment or sickness benefits for every day in one or more months for which creditable compensation was adjusted due to the receipt of a report of creditable compensation adjustment (RRB FORM BA-4, OMB Approved 3220-0008) from their railroad employer.

The computer generated Form ID-5S(SUP) includes pertinent identifying information, the BA-4 adjustment process date and the claimed months in question. Space is provided on the report for the employer's use in supplying the information requested in the computer generated transmittal letter, Form ID-5S, which accompanies the report. To our knowledge no other agency uses forms similar to proposed form ID-5S(SUP). Completion is voluntary. One response is requested of each respondent.

Additional Information or Comments

To request more information or to obtain a copy of the information collection justification, forms, and/or supporting material, please call the RRB Clearance Officer at (312) 751-3363. Comments regarding the information collection should be addressed to Ronald J. Hodapp, Railroad Retirement Board, 844 North Rush Street, Chicago, Illinois 60611-2092. Written comments should be received on or before May 21, 2001.

Chuck Mierzwa,
Clearance Officer.

[FR Doc. 01-7140 Filed 3-21-01; 8:45 am]

BILLING CODE 7590-01-M